DEPARTMENT OF THE INTERIOR

Bureau of Land Management

[LLCA 942000 L57000000 BX0000]

Filing of Plats of Survey: California

AGENCY: Bureau of Land Management, Interior.

ACTION: Notice.

SUMMARY: The plats of survey of lands described below are scheduled to be officially filed in the Bureau of Land Management California State Office, Sacramento, California, thirty (30) calendar days from the date of this publication.

ADDRESSES: A copy of the plats may be obtained from the California State Office, Bureau of Land Management, 2800 Cottage Way, Sacramento, California 95825, upon required payment.

Protest: A person or party who wishes to protest a survey must file a notice that they wish to protest with the California State Director, Bureau of Land Management, 2800 Cottage Way, Sacramento, California, 95825.

FOR FURTHER INFORMATION CONTACT: Chief, Branch of Geographic Services, Bureau of Land Management, California State Office, 2800 Cottage Way, Room W-1623, Sacramento, California 95825, (916) 978-4310.

SUPPLEMENTARY INFORMATION: These surveys were executed to meet the administrative needs of various federal agencies; the Bureau of Land Management, Bureau of Indian Affairs, or Bureau of Reclamation. The lands surveyed are:

Mount Diablo Meridian, California

T. 24 S., R. 23 E., dependent resurvey and metes-and-bounds survey accepted May 14, 2013.

T. 40 N., R. 9 E., dependent resurvey and subdivision of section 24 accepted May 15, 2013.

T. 2 S., R. 17 E., dependent resurvey and subdivision of sections 17 and 18 accepted May 20, 2013.

T. 11 S., R. 21 E., dependent resurvey, subdivision of sections, and metes-and-bounds survey accepted May 21, 2013.

T. 16 N., R. 9 E., dependent resurvey and informative traverse accepted June 6, 2013.

T. 18 N., R. 8 E., subdivision of section 33 accepted June 25, 2013.

San Bernardino Meridian, California

T. 1 N., R. 17 and 18 W., dependent resurvey and metes-and-bounds survey accepted June 18, 2013.

T. 9 S., R. 12 E., dependent resurvey and metes-and-bounds survey accepted June 25, 2013.

Authority: 43 U.S.C., Chapter 3.

Dated: July 10, 2013.
Lance J. Bishop,
Chief Cadastral Surveyor, California.

[FR Doc. 2013-17494 Filed 7-19-13; 8:45 am]

BILLING CODE 4310-40-P